EXPORT-IMPORT BANK

Economic Impact Policy

Correction

In notice document E7-9803 appearing on page 28694 in the issue of Tuesday, May 22, 2007, make the following correction:

In the first column, in the last paragraph, in the seventh sentence, “xeconomic.impact@exim.gov” should read “economic.impact@exim.gov”.

[FR Doc. Z7-9803 Filed 5-31-07; 8:45 am]

BILLING CODE 1505-01-D